CONSUMER PRODUCT SAFETY COMMISSION

Sunshine Act Meetings

TIME AND DATE: Wednesday, January 18, 2023—09:30 a.m.; and Wednesday, January 18, 2023—11:00 a.m. (See MATTERS TO BE CONSIDERED for each meeting).

PLACE: These meetings will be held remotely.

STATUS: Commission Meetings—Open to the Public.

MATTERS TO BE CONSIDERED:

Briefing Matters:

NPR: Safety Standard and Notification Requirements for Button Cell or Coin Batteries. All attendees should pre-register for the Commission meeting using the following link: https://cpsc.webex.com/cpsc/onstage/g.php?MTID=e38e145c63710607cfd2304bdca14b25b and

Supplemental NPR to Update 16 CFR part 1101. All attendees should pre-register for the Commission meeting using the following link: https://cpsc.webex.com/cpsc/onstage/g.php?MTID=e164ef1d937c10571fc6773bcb98df5e3.

After registering you will receive a confirmation email containing information about joining the meeting.

CONTACT PERSON FOR MORE INFORMATION: Alberta E. Mills, Office of the Secretary, U.S. Consumer Product Safety Commission, 4330 East-West Highway, Bethesda, MD 20814, 301-504-7479 (Office) or 240-863-8938 (Cell).

Dated: January 11, 2023.
Alberta E. Mills,
Commission Secretary.

[FR Doc. 2023-00802 Filed 1-12-23; 11:15 am]

BILLING CODE 6355-01-P